DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues. It also withdraws the notice entitled, “Aviation Rulemaking Advisory Committee Meeting on Transport Airplane and Engine Issues”, published on September 26, 2012.

DATES: The meeting is scheduled for Wednesday, October 17, 2012, starting at 9 a.m. Eastern Daylight Time. Arrangements for oral presentations must be made by October 10, 2012.

ADDRESSES: The Boeing Company, 1200 Wilson Boulevard, Room 234, Arlington, Virginia 22209.

FOR FURTHER INFORMATION CONTACT: Ralen Gao, Office of Rulemaking, ARM-209, FAA, 800 Independence Avenue SW., Washington, DC 20591, Telephone (202) 267-3168, FAX (202) 267-5075, or email at ralen.gao@faa.gov.

SUPPLEMENTARY INFORMATION: Pursuant to Section 10(a)(2) of the Federal Advisory Committee Act (Pub. L. 92-463; 5 U.S.C. app. 2), notice is given of an ARAC meeting to be held October 17, 2012.

This document also serves as withdrawal of the meeting notice entitled, “Aviation Rulemaking Advisory Committee Meeting on Transport Airplane and Engine Issues” (77 FR 59243), in FR Doc. 2012-23709, that published on September 26, 2012.

The agenda for the October 17, 2012 meeting is as follows:

• Opening Remarks, Review Agenda and Minutes.

• FAA Report.

• ARAC Executive Committee Report.

• Transport Canada Report.

• EASA Report.

• Flight Controls Working Group Report.

• Avionics Systems Harmonization Working Group Report.

• Aging Airplanes Working Group Report.

• Any Other Business.

• Action Items Review.

Attendance is open to the public, but will be limited to the availability of meeting room space. Please confirm your attendance with the person listed in the FOR FURTHER INFORMATION CONTACT section no later than October 10, 2012. Please provide the following information: Full legal name, country of citizenship, and name of your industry association, or applicable affiliation. If you are attending as a public citizen, please indicate so.

The FAA will arrange for teleconference service for individuals wishing to join in by teleconference if we receive notice by October 10, 2012. For persons participating by telephone, please contact Ralen Gao by email or phone for the teleconference call-in number and passcode. Anyone calling from outside the Arlington, VA, metropolitan area will be responsible for paying long-distance charges.

The public must make arrangements by October 10, 2012, to present oral statements at the meeting. Written statements may be presented to the ARAC at any time by providing 25 copies to the person listed in the FOR FURTHER INFORMATION CONTACT section or by providing copies at the meeting. Copies of the documents to be presented to ARAC may be made available by contacting the person listed in the FOR FURTHER INFORMATION CONTACT section.

If you need assistance or require a reasonable accommodation for the meeting or meeting documents, please contact the person listed in the FOR FURTHER INFORMATION CONTACT section. Sign and oral interpretation, as well as a listening device, can be made available if requested 10 calendar days before the meeting.

Issued in Washington, DC, on September 27, 2012.
Brenda D. Courtney,
Acting Director, Office of Rulemaking.

[FR Doc. 2012-24203 Filed 9-28-12; 8:45 am]

BILLING CODE 4910-13-P